DEPARTMENT OF ENERGY

Federal Energy Regulatory Commission

[Project No. 2180-007]

PCA Hydro Inc.; Notice of Application Ready for Environmental Analysis and Soliciting Comments, Recommendations, Terms and Conditions, and Prescriptions

March 8, 2004.

Take notice that the following hydroelectric application has been filed with the Commission and is available for public inspection:

a. Type of Application: New major license.

b. Project No.: 2180-007.

c. Date Filed: June 26, 2001.

d. Applicant: PCA Hydro Inc.

e. Name of Project: Grandmother Falls Hydroelectric Project.

f. Location: On the Wisconsin River near the town of Bradley, Lincoln County, Wisconsin.

g. Filed Pursuant to: Federal Power Act, 16 U.S.C. 791(a)-825(r).

h. Applicant Contact: Mr. Kenneth Schulz, Packaging Company of America, N9090 County Road E, Tomahawk, Wisconsin 54487 (715) 453-2131 Ext. 499.

i. FERC Contact: Michael Spencer, michael.spencer@ferc.gov, (202) 219-2846.

j. Pursuant to § 4.34(b) of the Commission's regulations (see Order No. 533 issued May 8, 1991, 56 FR 23108, May 20, 1991), the deadline for filing comments, interventions, protests, recommendations, terms and conditions, and prescriptions is 60 days from the issuance date of this notice. Reply comments are due 105 days from the issuance date of this notice.

All documents (original and eight copies) should be filed with: Magalie R. Salas, Secretary, Federal Energy Regulatory Commission, 888 First Street, NE., Washington, DC 20426.

The Commission's rules of practice and procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eFiling” link.

k. Status of Environmental Analysis: This application is ready for environmental analysis at this time.

l. Description of Project: The existing project consists of: (1) A 39-foot-high, 450-foot-long concrete gravity dam with integral powerhouse and a gated section containing 8 Taintor gates; (2) a 370-foot-long, rock-filled dike with clay core; (3) a 758 acre reservoir with a normal storage capacity of 1,940 area-feet, at a normal pool elevation of 1,419.3 mean sea level; (4) a powerhouse containing three Francis turbines connected to generators with a combined capacity of 3,000 kW, and an average annual generation 17,897 MWh; (5) a 2,900-foot-long transmission line extending from the powerhouse to the Wisconsin Public Service line; and (5) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Anyone may obtain an extension of time for these deadlines from the Commission only upon a showing of good cause or extraordinary circumstances in accordance with 18 CFR 385.2008.

All filings must: (1) Bear in all capital letters the title “COMMENTS”, “MOTION TO INTERVENE”, “PROTEST”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

n. Procedures Schedule: The Commission staff proposes to issue one Environmental Assessment (EA) rather than issuing a draft and final EA. Staff intends to allow at least 30 days for entities to comment on the EA, and will take into consideration all comments received on the EA before final action is taken on the license application. If any person or organization objects to the staff proposed alternative procedure, they should file comments as stipulated in item j above, briefly explaining the basis for their objection. The application will be processed according to the following schedule, but revisions to the schedule may be made as appropriate:

Issue Notice of availability of EA: June 2004.

Magalie R. Salas,
Secretary.

[FR Doc. E4-569 Filed 3-15-04; 8:45 am]

BILLING CODE 6717-01-P